DEPARTMENT OF JUSTICE

Notice of Lodging of Consent Decree Under the Clean Air Act

Notice is hereby given that on May 24, 2010, a proposed Consent Decree in United States, and South Coast Air Quality Management District v. Lifoam Industries, LLC, Civil Action No. 10-CV-03825-AHM-FFM was lodged with the United States District Court for the Central District of California.

The United States, on behalf of the Environmental Protection Agency (“EPA”), and the South Coast Air Quality Management District (“SCAQMD”) brought an action against Lifoam Industries, LLC, (“Lifoam”), alleging violations of the Clean Air act (“ACT”), 42 U.S.C. 7401 et seq. at Lifoam's expanded polystyrene foam (“EPS”) manufacturing facility located in Vernon, California. The Complaint seeks civil penalties for violations of SCAQMD Rule 1175, which has been approved into the federally enforceable California State Implementation Plan (“SIP”), as well as for violations of a permit issued by SCAQMD to Defendant. The Complaint also seeks injunctive relief requiring that Lifoam comply with Rule 1175 and the conditions of its permit. Under the terms of the Consent Decree, Lifoam will pay a civil penalty of $450,000 to be divided between the United States and SCAQMD and will perform injunctive relief to ensure that emissions from its facility comply with the ACT and Lifoam's permit issued under the ACT. The Department of Justice will receive for a period of thirty (30) days from the date of this publication comments relating to this Consent Decree. Comments should be addressed to the Assistant Attorney General, Environment and Natural Resources Division, and either E-mailed to pubcomment-ees.enrd@usdoj.gov or mailed to P.O. Box 7611, U.S. Department of Justice, Washington, DC 20044-7611 and should refer to United States et al. v. Lifoam Industries, LLC, D.J. Ref. #90-5-2-1-08675.

The Consent Decree may be examined at U.S. EPA Region IX, Office of Regional Counsel, 75 Hawthorne Street, San Francisco, CA 94105. During the public comment period, the Consent Decree may also be examined on the following Department of Justice Web site: http://www.usdoj.gov/enrd/Consent_Decrees.html. A copy of the Consent Decree may also be obtained via U.S. mail by sending a request to the Consent Decree Library, P.O. Box 7611, U.S. Department of Justice, Washington, DC 20044-7611 or by faxing or E-mailing a request to Tonia Fleetwood (tonia.fleetwood@usdoj.gov), fax no. (202) 514-0097, phone confirmation number (202) 514-1547. In requesting a copy of the Decree from the Consent Decree Library, please enclose a check in the amount of $7.75 (25 cents per page reproduction cost) payable to the U.S. Treasury or, if by E-mail or fax, please forward a check in that amount to the Consent Decree Library at the stated address.

Maureen Katz,
Assistant Chief, Environmental Enforcement Section, Environment and Natural Resources Division.

[FR Doc. 2010-13127 Filed 6-1-10; 8:45 am]

BILLING CODE 4410-15-P